CONSUMER PRODUCT SAFETY COMMISSION

16 CFR Parts 1508 and 1509

Revocation of Requirements for Full-Size Baby Cribs and Non-Full-Size Baby Cribs

AGENCY: Consumer Product Safety Commission.

ACTION: Final rule.

SUMMARY: Section 104(b) of the Consumer Product Safety Improvement Act of 2008 (“CPSIA”) requires the U.S. Consumer Product Safety Commission (“CPSC” or “Commission”) to promulgate consumer product safety standards for durable infant or toddler products. These standards are to be “substantially the same as” applicable voluntary standards or more stringent than the voluntary standard if the Commission concludes that more stringent requirements would further reduce the risk of injury associated with the product. The Commission is issuing this rule to revoke its existing regulations pertaining to full-size and non-full-size cribs because, elsewhere in this issue of the Federal Register, the Commission is issuing consumer product safety standards for cribs that will further reduce the risk of injury associated with these products under section 104 of the CPSIA. The new consumer product safety standards for cribs will include the requirements that have been in 16 CFR parts 1508 and 1509 for full-size and non-full-size cribs. To eliminate duplication, the Commission is removing 16 CFR parts 1508 and 1509 entirely.

DATES: Effective June 28, 2011.

FOR FURTHER INFORMATION CONTACT: Christopher Melchert, Division of Regulatory Enforcement, Office of Compliance, Consumer Product Safety Commission, 4330 East West Highway, Bethesda, MD 20814; telephone (301) 504-7588; cmelchert@cpsc.gov.

SUPPLEMENTARY INFORMATION:

A. What regulations is the CPSC revoking?

The CPSC first published the full-size crib regulation, 16 CFR part 1508, in 1973 (38 FR 32129 (Nov. 21, 1973)) and amended it in 1982. The CPSC published the regulation for non-full-size cribs, 16 CFR part 1509, in 1976 (41 FR 6240 (Feb. 12, 1976)), and amended it in 1982. Both standards contain requirements pertaining to dimensions, spacing of components, hardware, construction and finishing, assembly instructions, cutouts, identifying marks, warning statements, and compliance declarations. In addition, 16 CFR part 1509 contains a requirement regarding mattresses.

B. Why is the CPSC revoking the regulations pertaining to cribs?

The Consumer Product Safety Improvement Act of 2008, Public Law 110-314 (“CPSIA”), was enacted on August 14, 2008. Section 104(b) of the CPSIA requires the Commission to promulgate consumer product safety standards for durable infant or toddler products. These standards are to be “substantially the same as” applicable voluntary standards or more stringent than the voluntary standard if the Commission concludes that more stringent requirements would further reduce the risk of injury associated with the product. Elsewhere in this issue of the Federal Register, the Commission is issuing safety standards for full-size and non-full-size cribs under the authority of section 104 of the CPSIA. These new standards adopt the voluntary standards developed by ASTM International (formerly known as the American Society for Testing and Materials), which are more stringent in some respects than the current applicable standards, and include ASTM F 1169-10, “Standard Consumer Safety Specification for Full-Size Baby Cribs,” and ASTM F 406-10a, “Standard Consumer Safety Specification for Non-Full-Size Baby Cribs/Play Yards.”

The crib standards that the CPSC is publishing elsewhere in this issue of the Federal Register incorporate all of the requirements currently found in 16 CFR parts 1508 and 1509. Consequently, the requirements found at 16 CFR parts 1508 and 1509 have become redundant. The Commission, therefore, is revoking 16 CFR parts 1508 and 1509 in their entirety.

The Commission emphasizes that the revocation of 16 CFR parts 1508 and 1509 would have no substantive effect on crib safety. The requirements from 16 CFR parts 1508 and 1509 still apply to full-size and non-full-size cribs, but are part of new consumer product safety standards to be codified at 16 CFR parts 1219 and 1220.

C. Comment on the Proposal

In the Federal Register of July 23, 2010 (75 FR 43107), the Commission published a notice of proposed rulemaking proposing to revoke 16 CFR parts 1508 and 1509. We received one comment on the proposal. The comment agreed with the proposed revocation, stating: “The proposed new regulations will be more thorough and comprehensive than the old regulations. It is simply logical to revoke the old outdated 16 CFR parts 1508 and 1509.”

We agree with the comment, and therefore, we are revoking 16 CFR parts 1508 and 1509 entirely.

D. Paperwork Reduction Act

This rule would not impose any information collection requirements. Accordingly, this rule is not subject to the Paperwork Reduction Act, 44 U.S.C. 3501-3520.

E. Environmental Considerations

This rule falls within the scope of the Commission's environmental review regulation at 16 CFR 1021.5(c)(1), which provides a categorical exclusion from any requirement for the agency to prepare an environmental assessment or environmental impact statement for rules that revoke product safety standards.

F. Effective Date

The final rule to revoke 16 CFR parts 1508 and 1509 becomes effective on June 28, 2011. This date corresponds to the effective date of the new mandatory standards developed for full-size and non-full-size cribs.

List of Subjects

16 CFR Part 1508

Consumer protection, Cribs and bassinets, Infants and children, Reporting and recordkeeping requirements.

16 CFR Part 1509

Consumer protection, Cribs and bassinets, Infants and children, Reporting and recordkeeping requirements.

For the reasons stated above, and under the authority of section 3 of the CPSIA and 5 U.S.C. 553, the Consumer Product Safety Commission removes 16 CFR parts 1508 and 1509 entirely.

PART 1508—[REMOVED]

1. Under authority of section 3 of the CPSIA, part 1508 is removed.

PART 1509—[REMOVED]

2. Under authority of section 3 of the CPSIA, part 1509 is removed.

Dated: December 17, 2010.
Todd A. Stevenson,
Secretary, U.S. Consumer Product Safety Commission.

[FR Doc. 2010-32179 Filed 12-27-10; 8:45 am]

BILLING CODE 6355-01-P